DEPARTMENT OF ENERGY

Office of Energy Efficiency and Renewable Energy

Federal Energy Management Advisory Committee

AGENCY: Department of Energy, Office of Energy Efficiency and Renewable Energy.

ACTION: Notice of open meeting.

SUMMARY: This notice announces an open meeting of the Federal Energy Management Advisory Committee (FEMAC). The Federal Advisory Committee Act (Pub. L. 92-463, 86 Stat. 770) requires that these meetings be announced in the Federal Register to allow for public participation. This notice announces the eleventh FEMAC public meeting, an advisory committee established under Executive Order 13123—“Greening the Government through Efficient Energy Management.”

DATES: June 7, 2006, 1:30 p.m. to 4:30 p.m.

ADDRESSES: The Hotel Washington, 15th and Pennsylvania Avenue, [Please follow signs in the hotel for room number] Washington, DC 20004.

FOR FURTHER INFORMATION CONTACT: Rick Klimkos, Designated Federal Officer, Office of Federal Energy Management Programs, U.S. Department of Energy, 1000 Independence Avenue, SW., Washington, DC 20585; (202) 586-8287.

SUPPLEMENTARY INFORMATION: Purpose of the Meeting: To seek input and feedback from interested parties on working group recommendations to meet mandated Federal energy management goals.

Tentative Agenda: Agenda will include discussions on the following topics:

○ Update on FEMAC working group activities.

○ Discussion on FEMAC priorities.

○ Open public discussion.

Public Participation: In keeping with procedures, members of the public are welcome to observe the business of the Federal Energy Management Advisory Committee. If you would like to file a written statement with the committee, you may do so either before or after the meeting. If you would like to make oral statements regarding any of these items on the agenda, you should contact Rick Klimkos at (202) 586-8287 or rick.klimkos@ee.doe.gov (e-mail). You must make your request for an oral statement at least 5 business days before the meeting. Members of the public will be heard in the order in which they sign up at the beginning of the meeting. Reasonable provision will be made to include the scheduled oral statements on the agenda. The chair of the committee will make every effort to hear the views of all interested parties. The chair will conduct the meeting to facilitate the orderly conduct of business.

Minutes: The minutes of the meeting will be available for public review and copying within 60 days at the Freedom of Information Public Reading Room; Room 1E-190; Forrestal Building; 1000 Independence Avenue, SW., Washington, DC, between 9 a.m. and 4 p.m., Monday through Friday, except Federal holidays.

Issued at Washington, DC on May 17, 2006.
Carol Matthews,
Acting Advisory Committee Management Officer.

[FR Doc. E6-7814 Filed 5-22-06; 8:45 am]

BILLING CODE 6450-01-P